DEPARTMENT OF TRANSPORTATION

Surface Transportation Board

[Docket No. FD 35868]

V and S Railway, LLC—Acquisition Exemption—Line of Missouri Central Railroad Company

V and S Railway, LLC (V&S), a Class III rail carrier, has filed a verified notice of exemption under 49 CFR 1150.41 to acquire from Missouri Central Railroad Company (MCRR) and operate a 52.6-mile line of railroad extending between milepost 19.0, near Vigus, St. Louis County, Mo., and milepost 71.6, near Beaufort, Franklin County, Mo. (the Line). V&S also is acquiring incidental trackage rights on the Union Pacific Railroad Company (UP) between milepost 19.0, near Vigus, and milepost 10.3, near Rock Island Junction, Mo.¹

¹ The Line and the UP incidental trackage rights sought to be acquired by V&S were acquired by MCRR as part of the acquisition authorized in Missouri Central Railroad—Acquisition & Operation Exemption—Lines of Union Pacific Railroad, FD 33508 (STB served Jan. 27, 1998).

V&S states that it has reached an agreement with MCRR pursuant to which MCRR will sell and V&S will buy the Line. According to V&S, the agreement between V&S and MCRR does not contain an interchange commitment. V&S also states that the Line is currently operated by Central Midland Railway Company (CMRC).² According to V&S, CMRC will continue operating the Line proposed to be acquired by V&S pursuant to an agreement between MCRR and CMRC, as amended, which calls for CMRC's discontinuance of service on the Line, subject to Board authorization, on December 31, 2020.

² See Cent. Midland Ry.—Operation Exemption—Lines of Mo. Cent. R.R., FD 33988 (STB served Jan. 29, 2001).

The proposed transaction may be consummated on or after December 12, 2014, the effective date of this exemption (30 days after the exemption was filed).

V&S certifies that as a result of the proposed acquisition its revenue will remain below $5 million, and the transaction will not result in the creation of a Class II or Class I rail carrier.

If the verified notice contains false or misleading information, the exemption is void ab initio. Petitions to revoke the exemption under 49 U.S.C. 10502(d) may be filed at any time. The filing of a petition to revoke will not automatically stay the effectiveness of the exemption. Petitions to stay must be filed by December 5, 2014 (at least seven days prior to the date the exemption becomes effective).

An original and 10 copies of all pleadings, referring to Docket No. FD 35868, must be filed with the Surface Transportation Board, 395 E Street SW., Washington, DC 20423-0001. In addition, a copy of each pleading must be served on applicant's representative, Fritz R. Kahn, Fritz R. Kahn, P.C., 1919 M Street NW. (7th Floor), Washington, DC 20036.

Board decisions and notices are available on our Web site at WWW.STB.DOT.GOV.

Decided: November 24, 2014.
By the Board, Rachel D. Campbell, Director, Office of Proceedings.
Raina S. White,
Clearance Clerk.

[FR Doc. 2014-28134 Filed 11-26-14; 8:45 am]

BILLING CODE 4915-01-P